DEPARTMENT OF THE TREASURY

Office of Foreign Assets Control

Unblocking of Specially Designated Nationals and Blocked Persons Pursuant to Executive Order 13288, as Amended by Executive Order 13391, and Executive Order 13469

AGENCY: Office of Foreign Assets Control, Treasury.

ACTION: Notice.

SUMMARY: The Treasury Department's Office of Foreign Assets Control (OFAC) is publishing the names of five individuals and three entities whose property and interests in property have been blocked pursuant to Executive Order (E.O.) 13288 of March 6, 2003, “Blocking Property of Persons Undermining Democratic Processes or Institutions in Zimbabwe,” as amended by E.O. 13391, “Blocking Property of Additional Persons Undermining Democratic Processes or Institutions in Zimbabwe,” and E.O. 13469 of July 25, 2008, “Blocking Property of Additional Persons Undermining Democratic Processes or Institutions in Zimbabwe.”

DATES: OFAC's actions described in this notice are effective as of February 3, 2016.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treasury.gov/ofac). Certain general information pertaining to OFAC's sanctions programs is also available via facsimile through a 24-hour fax-on-demand service, tel.: 202/622-0077.

Notice of OFAC Actions

On February 3, 2016, the Acting Director of OFAC, in consultation with the State Department, determined that circumstances no longer warrant the inclusion of the following five individuals and three entities on OFAC's SDN list, and that these individuals and entities are no longer subject to the blocking provisions of Section 1(a) of E.O. 13288, as amended by E.O. 13991, and Section 1(a) of E.O. 13469.

Individuals

1. TAVEESIN, Nalinee (a.k.a. TAVEESIN, Nalinee Joy; a.k.a. TAWEESIN, NALINEE), 14th Floor of Modern Tower, Tower 87/110 Sukhumvit 63, Wattana, Bangkok 10110, Thailand; 33 Soi Soonvijai 4, Rama IX Road, Soi 26, Success Tower, Huai Khwang, Bang Kapi, Bangkok 10320, Thailand; 19-8 Soi Passana 3, Sukhumvit Road, Pakanong Nua, Wattana, Bangkok 10110, Thailand; 33 Soi Soonwichai 4 Bangkapi, Huaykhwang, Bangkok 10310, Thailand; DOB 12 Feb 1960; alt. nationality Thailand; alt. citizen Thailand; Passport Z066420 (Thailand); Managing Director (individual) [ZIMBABWE].

2. NDLOVU, Rose Jaele; DOB 27 Sep 1939; Passport AD000813 (Zimbabwe);

Spouse of Sikhanyiso Ndlovu (individual) [ZIMBABWE].

3. NDLOVU, Sikhanyiso Duke; DOB 04 May 1937; Passport ZD001355 (Zimbabwe); Deputy Minister of Higher and Tertiary Education (individual) [ZIMBABWE].

4. MIDZI, Amos Bernard Muvenga; DOB 04 Jul 1952; Minister of Mines and Mining Development (individual) [ZIMBABWE].

5. SAKUPWANYA, Stanley; DOB circa 1945; Deputy Secretary for Disabled and Disadvantaged (individual) [ZIMBABWE].

Entities:

1. NDLOVU MOTORWAYS, c/o Sam Nujoma Street/Livingston Avenue, Harare, Zimbabwe [ZIMBABWE].

2. AGRICULTURAL DEVELOPMENT BANK OF ZIMBABWE (a.k.a. AGRIBANK; a.k.a. AGRICULTURAL BANK OF ZIMBABWE), 15th Floor, Hurudza House, 14-16 Nelson Mandela Avenue, Harare, Zimbabwe; Box 369, Harare, Zimbabwe; Phone No. 263-4-774426; Fax No. 263-4-774556 [ZIMBABWE].

3. INFRASTRUCTURE DEVELOPMENT BANK OF ZIMBABWE (a.k.a. ZIMBABWE DEVELOPMENT BANK), ZDB House, 99 Rotten Row, Harare, Mashonaland East, Zimbabwe; P.O. Box 1720, Harare, Zimbabwe; Phone No. 263-4-7501718; Fax No. 263-4-7744225 [ZIMBABWE].

Dated: February 3, 2016.
John E. Smith,
Acting Director, Office of Foreign Assets Control.

[FR Doc. 2016-02364 Filed 2-5-16; 8:45 am]

BILLING CODE 4811-AL-P